DEPARTMENT OF HEALTH AND HUMAN SERVICES

Administration for Children and Families

Administration on Children, Youth and Families Announces the Award of a Single-Source Program Expansion Supplement Grant To Support Expanded Training and Technical Assistance to the Pennsylvania Coalition Against Domestic Violence in Harrisburg, PA

AGENCY: Family and Youth Services Bureau, ACYF, ACF, HHS.

ACTION: Notice to Announce the Award of a Single-Source Program Expansion Supplement to Pennsylvania Coalition Against Domestic Violence, National Resource Center on Domestic Violence to Support a Family Violence Prevention and Services Act (FVPSA) Technical Assistance (TA) Project.

CFDA Number: 93.592.

Statutory Authority: Section 310 of the Family Violence Prevention and Services Act, as amended by Section 201 of the CAPTA Reauthorization Act of 2010, Pub. L. 111-320.

SUMMARY: The Administration for Children and Families (ACF), Administration on Children, Youth and Families (ACYF), Family and Youth Services Bureau (FYSB) is announcing the award of a single-source program expansion supplement of $250,000 to the Pennsylvania Coalition Against Domestic Violence in Harrisburg, PA. The supplemental funds will support the grantee in providing training and technical assistance to domestic violence service providers including ACF grantees, State and local social service agencies; so that they better serve victims of domestic violence and their children who are experiencing the mental health and traumatic effects of intimate partner violence. These efforts will increase domestic violence programs awareness and access to effective interventions that are trauma informed.

DATES: September 30, 2011 through September 29, 2012.

FOR FURTHER INFORMATION CONTACT: Marylouise Kelley, Ph.D., Director, Family Violence Prevention and Services Program, 1250 Maryland Avenue SW., Suite 8216, Washington, DC 20024. Telephone: (202) 104-5756. Email: Marylouise.kelley@acf.hhs.gov.

Dated: October 13, 2011.
Bryan Samuels,
Commissioner, Administration on Children, Youth and Families.

[FR Doc. 2011-28035 Filed 10-28-11; 8:45 am]

BILLING CODE 4184-32-P